DEPARTMENT OF COMMERCE

[Docket Number: 000817241-0241-01]

Financial Assistance for Internship Program for Postsecondary Students

AGENCY: Department of Commerce.

ACTION: Notice.

SUMMARY: The Department of Commerce (DoC) established a postsecondary internship program to aid and promote experiential training activities which foster future employment in DoC or the Federal Government in general. U.S. citizens enrolled as students in two-and four-year accredited educational institutions, and accredited graduate and law schools will participate in on-site work experiences in DoC bureaus and offices in order to integrate academic theory and workplace requirements; gain relevant skills and knowledge; explore Federal career options; develop professional networks; and develop a greater awareness of the role of Federal agencies. The program will be administered through a partnership between the DoC and non-profit and/or educational institution(s) and funded by cooperative agreement(s). This notice solicits proposals from eligible institutions that desire to collaborate with the DoC on this initiative.

Student opportunities will be primarily in the Washington, DC metropolitan area, but will include field locations outside the area. Summer internship sessions will be for a ten-week period. Academic semester or quarter internship sessions will be structured to coincide with the academic calendar of the students' institutions. Institutions that are selected as training partners will develop and administer a comprehensive internship program. The DoC will serve as hosts for the student interns and provide program support through the financial assistance award; however, students may be assigned to work in Federal agencies other than DoC. When interns are assigned to other Federal agencies, those agencies will reimburse DoC for costs associated with the interns. There will be no employer-employee relationship between the DoC and its hosted interns. Interns will receive stipends. Round-trip air or ground transportation between the metropolitan DC area (or field job location) and the students' residence or school site will also be provided to interns, as needed. The number of available internships will vary depending upon the financial position of the potential host offices and bureaus, but for the purposes of this notice, the following will be used for projections: thirty student interns for the summer session, and five interns for each academic year session.

Selected institution(s) will perform the following functions: Outreach and recruitment; application processing and referral; selection notification and follow up; logistics, including temporary housing and accommodations; orientation and communication; enrichment activities program; intern personnel and pay administration; intern monitoring; intern evaluation; program evaluation; and evaluation reporting.

DATES: Applications must be received no later than 5 p.m., Eastern Standard Time, December 22, 2000. Applications or portions of applications will not be accepted via facsimile or electronic mail.

ADDRESSES: Applicants must submit one signed original plus two (2) copies of the application, including all information required by the application kit. Applications should be mailed to: U.S. Department of Commerce, Office of Executive Assistance Management, Attn.: Carin M. Otero, Room H6022, 1401 Constitution Avenue, NW., Washington, DC 20230.

Note: If the application is hand-delivered by the applicant or its representative to the U.S. Department of Commerce, Herbert C. Hoover Building, the application must be delivered to Room 1874, which is located at Entrance #10, 15th Street, NW., between Pennsylvania and Constitution Avenues. Applications delivered on the date of the application deadline must be delivered by 5 p.m. Eastern Standard Time.

FOR FURTHER INFORMATION CONTACT: Mrs. Carin M. Otero, (202) 482-3275.

SUPPLEMENTARY INFORMATION: Authority: 5 U.S.C. 7201 requires that each Executive agency conduct a continuing program for the recruitment of members of minorities to address under representation of minorities in various categories of Federal employment. Executive Order 12876 provides for Executive departments to enter into, among other things, cooperative agreements with Historically Black Colleges and Universities (HBCUs) to further the goals of the Executive Order, principally that of strengthening the capacity of HBCUs to provide quality education, and to increase opportunities to participate in and benefit from Federal programs. Executive Order 12900 calls for Executive departments to develop plans to increase opportunities for Hispanic Americans to participate in and benefit from Federal education programs. Executive Order 13201 helps ensure that greater Federal resources are available to the tribal colleges. Executive Order 13125 directs Federal agencies to increase participation of Asian and Pacific Islanders in Federal programs. Applications will be accepted from any eligible institution, and applications for internships shall be accepted from all students meeting program eligibility criteria and will not be limited only to minority students. Application, referral and selection processes shall be conducted without any consideration of race, ethnicity, gender, or other personal factors.

Catalog of Federal Domestic Assistance: 11.702-Internship Program for Postsecondary Students

Program Description

In order to ensure that the Federal Government can maintain visibility and attractiveness to the “best and brightest” college students, this program supports partnerships between Federal departments and nonprofit or educational institutions. This program continues to improve opportunities for college students to prepare for their transition to the workplace and foster human resource diversity in DoC. Depending upon the responsiveness of the institutions which submit applications, more than one institution may be selected to participate in this program.

There will be two components to the program: A ten-week summer session and an academic year program that consists of two sessions. The length of each academic year session will be structured to coincide with the academic calendar of the students' institutions, e.g., semester or quarter hour system; applicants who wish to administer an academic year program must indicate the proposed duration of the academic year sessions. In order to obtain a sufficient number of quality candidates during the spring and fall sessions, applicants should consider a component of the program to allow for interns to work a part-time schedule while attending school during those sessions. The first session under this program will begin summer 2001. The first academic session will begin in fall 2001, followed by a session in the spring of 2002. This cycle is expected to be repeated until three years after the initial grant is awarded. It is anticipated that intern opportunities will be greater during the summer sessions than the academic year sessions.

In addition to including the mandatory activities described below, an organization should propose an intern program design that represents a comprehensive approach to a work-study experience and its own philosophy about workforce preparedness. For the purposes of the proposal, plans and budgets should be presented separately for the summer and academic year sessions. An organization may wish to collaborate with DoC on a summer program only, on an academic year program only, or on both a summer program and an academic year program. It is not required that both components be included in an application in order to be selected as a recipient.

The recipient(s) selected to administer the intern program must conduct the following activities:

Outreach and recruitment. Design, prepare, duplicate and distribute application materials to students. Collect information about potential internship openings from host offices to assist in identifying student applicants who are the best matches for the offices' needs. Prepare publicity to inform academic institutions and students about upcoming program opportunities and to solicit applications from a broad range of students who meet defined program criteria such as GPA and academic standing. Process applications, including evaluating candidates' eligibility and qualifications, and referring candidates to host Federal officials for consideration and selection. Outreach and publicity must be conducted so that women and minorities that are under represented in the DoC are included in the target groups. Participation in the program must be open to all eligible students without regard to age, race, ethnicity, gender, or other pertinent factors. In cases of jobs requiring technical skills or for other related reasons, Federal managers, liaisons, or other program officials may elect to participate in the evaluation of applicant packages.

Selection notification and follow up. Receive selection decisions from host offices, convey internship offers to selectees, explain logistical and administrative processes to selectees. Distribute written information to students that will help them adequately prepare for their professional and personal needs during their internship; material must be sent to students before their departure for their internship sites. Communicate with DoC program representatives or liaisons on the status of offers of selection, acceptances and declinations.

Logistical arrangements. Locate suitable housing for students, make all prior arrangements to allow students to move into housing upon their arrival at the internship site. Make round trip airline reservations for students between home/school city and host office location; arrange for students to receive their tickets. Arrange for ground transportation to pick up arriving students at airport and take to housing site. At the end of the internship period, arrange for transportation between the housing site and the airport. Explain housing, air transportation, ground transportation, and other logistical arrangements to students so that there is a clear expectation of what costs, if any, are involved and what the responsibilities of both the student and the recipient institution/organization are. Housing must be convenient to public transportation and affordable. The DoC must be consulted in the process to select student housing facilities, but the final decision and negotiations with the housing provider will be left wholly to the recipient institution.

Orientation and communication. Design and provide orientation program to familiarize students with local area in which they will live and work, services, safety and security, public transportation systems, and educational and administrative program requirements. Applicants must include plans for on-site orientation for summer sessions.

Enrichment activities. Design and implement a comprehensive enrichment program; ideally the program should require a minimum of time away from the work site during duty hours. The activities should focus on students' personal and professional growth, and provide insights into ways to reach their academic and personal goals. They may also be designed to teach students how the different branches of the Federal Government operate, to improve interns' communication skills, or to foster an understanding of cultural or ethnic issues.

Personnel administration. Maintain interns' personnel records, pay stipends, deduct applicable payroll taxes, provide worker compensation insurance, unemployment insurance, and short-term accident insurance, and provide state, Federal and local tax information and report of earnings forms to students.

Intern monitoring. Communicate on a regular basis, both by telephone and in person, with the students, their supervisors, and DoC and bureau coordinators to assure that the experience is progressing as intended and that problems or questions are resolved.

Intern performance evaluation. Selected recipients must develop and design an effective evaluation program that will assess the interns' performance and progress. Ideally, all aspects of intern performance and the overall work experience from the perspective of both the intern and his or her supervisor will be included in the assessment. Student performance should be evaluated at the mid-point and at the end of each session. Evaluations will be submitted to the DoC Federal Program manager within one month of the assessment date.

Program Performance. In accordance with 15 CFR Part 14, “Uniform Administrative Requirements for Grants and Agreements with Institutions of Higher Education, Hospitals, Other Non-Profit, and Commercial Organizations,” selected recipients must manage and monitor functions and activities supported by the financial award and should have a plan to do so. Performance reports are required at mid-term and at the end of each session. The reports should focus on program accomplishments against the goals and objectives of the program, and include other pertinent information. Of interest would be overall demographic information about program participants such as name of educational institutions and/or regional area represented, academic majors represented, academic standing, and average GPA. Additionally, lessons learned about the design and implementation of the program and identification of areas requiring improvement are particularly useful.

Funding Availability. Applicants must submit project plans and budgets for three years. Project(s) will be funded for no more than one year at a time. Funding for each subsequent year will be at the sole discretion of the DoC and will depend on satisfactory performance by the recipient and the availability of funds to support the continuation of the project(s). Funds for the first year are expected to be awarded in March 2001. Funds available under this program for successive years are expected to be awarded in February of each year. Projections based upon previous experience indicate availability of between $150,000-$730,000 to support from 25 up to about 100 interns. However the exact level of funding available is not yet known. Proposals should be based upon the cost of administering a summer program for 30 student interns and also include a per capita cost for additional interns, proposals for a semester or quarter session should be projected on the basis of 5 interns.

Use of Program Income. Applicants are advised that any program income generated by a proposed project is subject to special conditions. Anticipated program income must be documented appropriately in the proposed budget. In addition, should an application be funded, unanticipated program income must be reported to the Federal Program Officer, and the budget for the project must be renegotiated to reflect receipt of the program income. Program income means gross income earned by the recipient that is either directly generated by a supported activity, or earned as a result of the award.

Matching Requirements. Applications must reflect the total budget necessary to accomplish the project, including contributions and/or donations. Cost-sharing is not required for the internship program; however, cost-sharing is encouraged. The appropriateness of all cost-sharing will be determined on the basis of guidance provided in applicable Federal cost principles. If an applicant chooses to cost-share, and if that application is selected for funding, the applicant will be bound by the percentage of the cost-share reflected in the cooperative agreement award. The non-Federal share may include the value of in-kind contributions by the applicant or third parties or funds received from private sources or from state or local governments. Federal funds may not be used to meet the non-Federal share of matching funds, except as provided by Federal statute.

Third party in-kind contributions may be in the form of, but are not limited to, personal services rendered in carrying out functions related to the project and use of real or personal property owned by others (for which consideration is not required) in carrying out the projects. The total cost of a project begins on the effective award date of an authorized cooperative agreement between the applicant and the DoC Grants Officer and ends on the date specified in the award. Accordingly, time expended and costs incurred in either the development of a project or the financial assistance application, or in any subsequent discussions or negotiations prior to the award, are neither reimbursable nor recognizable as part of the recipient's cost share.

Type of Funding Instrument. Financial assistance awards in the form of cooperative agreements will be used to fund this program. The DoC and its participating bureaus will have substantive involvement in the following program activities: provide liaisons to institutions who will assist in coordinating program activities, provide description of available intern assignments and required academic backgrounds and job skills, participate in review and rating panels, and interview and make final selections from lists of eligible students that are provided by the institutions.

Eligibility Criteria. Accredited universities, colleges and non-profit organizations are eligible to apply. Eligible institutions may form joint ventures to submit a joint application to share costs and administration roles and responsibilities. In such cases, one of the institutions must be designated as the lead organization for purposes of receipt and overall accountability for any financial assistance award received under this program.

Award Period. The award period for the internship project will be three years. Funding will be provided annually at the discretion of the DoC and will depend upon satisfactory performance by the recipient and availability of funds for the DoC to continue funding the project. Normally each budget period may be no more than 12 months in duration. Project proposals accepted for funding for an award period over 1 year that include multiple project components and severable tasks to be funded during each budget period will not compete for funding in subsequent budget periods within the approved award period. Publication of this notice does not obligate DoC to award any specific cooperative agreement or to obligate all or any parts of the available funds.

Indirect Costs. The total dollar amount of the indirect costs proposed in an application under this program must not exceed the indirect cost rate negotiated and approved by a cognizant Federal agency prior to the proposed effective date of the award.

Application Forms and Kit. An application kit containing all required application forms and certifications is available by calling Lisa Duckett at (202) 482-3275. The application kit is also available on-line at http://www.doc.gov/oebam/.

Evaluation Criteria

Quality of Program Plan (30%). Includes, but is not limited to, strategy for outreach and publicity, procedures for collecting and evaluating applications, comprehensiveness of program design to include plans for on-site orientation for summer sessions, and practicality of approach.

Proposed Costs (30%). The proposed budget must be comprehensive and should include all costs for program personnel, fringe benefits, travel, equipment, supplies, and other associated items. The stipend level proposed for students should be stated in the budget.

Key Personnel Qualifications (20%). Includes an assessment of the number, qualifications, and proposed roles of staff who will administer the internship program. Resumes of proposed personnel will facilitate the evaluation of the competency and experience of the proposed staff.

Capabilities of the Applicant Organization (20%). Considers, among other things, previous experience and success administering similar programs, and staff and resources to assure adequate development, supervision, and execution of the proposed program. Additionally, an organization's commitment to educate/advance the education of women, minorities, and people with disabilities will be a consideration in evaluating this factor.

Selection Procedures

Each application will receive an independent, objective review by a panel qualified to evaluate the applications submitted. The Independent Review Panel, consisting of at least three individuals, will review all applications based on the criteria stated above. The Independent Review Panel will evaluate and rank the proposals. The final decision on awards will be based upon the numerical review panel ranking, availability of funding, and the Selecting Official's (DoC Federal Program Officer) determination of which proposals best meet the objectives of the program. The amount of funds awarded to each recipient will be determined in pre-award negotiations between the applicant, the Grants Officer, and the DoC Program Officer.

Federal Policies and Procedures. Recipients and subrecipients are subject to all Federal laws and Federal and DoC policies, regulations, and procedures applicable to Federal financial assistance awards.

Past Performance. Unsatisfactory performance under prior Federal awards may result in an application not being considered for funding.

Pre-award Activities. If applicants incur any costs prior to an award being made, they do so solely at their own risk of not being reimbursed by the Government. Notwithstanding any verbal or written assurance that may have been received, there is no obligation on the part of DoC to cover pre-award costs.

No Obligation for Future Funding. If an application is selected for funding, DoC has no obligation to provide any additional future funding in connection with that award. Renewal of an award to increase funding or extend the period of performance is at the total discretion of DoC.

Delinquent Federal Debts. No award of Federal funds shall be made to an applicant who has an outstanding delinquent Federal debt until either: the delinquent account is paid in full, a negotiated repayment schedule is established and at least one payment is received, or other arrangements satisfactory to DoC are made.

Name Check Review (CD-346). All nonprofit applicants are subject to a name check review process. Name checks are intended to reveal if any key individuals associated with the applicant have been convicted of or are presently facing criminal charges such as fraud, theft, perjury, or other matters which significantly reflect on the applicant's management honesty or financial integrity.

Primary Applicant Certifications. All primary applicants must submit a completed Form CD-511, “Certifications Regarding Debarment, Suspension and Other Responsibility Matters; Drug-Free Workplace Requirements and Lobbying,” and the following explanations are hereby provided:

Nonprocurement Debarment and Suspension. Prospective participants (as defined at 15 CFR Part 26, Section 105) are subject to 15 CFR Part 26, “Nonprocurement Debarment and Suspension” and the related section of the certification form prescribed above applies;

Drug-Free Workplace. Recipients (as defined at 15 CFR Part 26, Section 605) are subject to 15 CFR Part 26, Subpart F, “Government wide Requirements for Drug-Free Workplace (Grants)” and the related section of the certification form prescribed above applies;

Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

Anti-Lobbying Disclosures. Any applicant that has paid or will pay for lobbying using any funds must submit an SF-LLL, “Disclosure of Lobbying Activities,” as required under 15 CFR Part 28, Appendix B.

Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DoC. SF-LLL submitted by any tier recipient or subrecipient should be submitted to DoC in accordance with the instructions contained in the award document.

False Statements. A false statement on an application is grounds for denial or termination of funds and grounds for possible punishment by a fine or imprisonment as provided in 18 U.S.C. 1001.

Intergovernmental Review. Applications under this program are not subject to Executive Order 12372, “Intergovernmental Review of Federal Programs.”

Purchase of American-Made Equipment and Products. Applicants are hereby notified that they are encouraged, to the extent feasible, to purchase American-made equipment and products with funding provided under this program in accordance with Congressional intent.

Fly America Act. The Fly America Act requires that Federal travelers and others performing U.S. Government-financed foreign air travel must use U.S. flag air carriers, to the extent that service by such carriers is available. Foreign air carriers may be used only when a U.S. flag air carrier is unavailable, or use of U.S. flag air carrier service will not accomplish the agency's mission.

Classification

This document involves collections of information subject to the Paperwork Reduction Act, which have been approved by OMB under OMB control numbers 0348-0043, 0348-0044, 0348-0040, and 0348-0046. Notwithstanding any other provision of law, no person is required to respond to nor shall a person be subject to a penalty for failure to comply with a collection of information subject to the requirements of the Paperwork Reduction Act unless that collection of information displays a current valid OMB control number.

This document has been determined to be “not significant” for purposes of Executive Order 12866.

John J. Phelan, III,
Acting Director for Executive Budgeting and Assistance Management.

[FR Doc. 00-27102 Filed 10-20-00; 8:45 am]

BILLING CODE 3510-BV-P